DEPARTMENT OF HEALTH AND HUMAN SERVICES

Administration for Children and Families

[Program Announcement No. ACYF-PA-CCB-2003-02]

Child Care Research and Evaluation

AGENCY: Administration on Children, Youth and Families (ACYF), ACF, HHS.

ACTION: Announcement of the availability of funds for child care research and evaluation projects.

SUMMARY: The Administration for Children and Families (ACF) intends to fund approximately six new research and evaluation projects in FY 2003. A total of up to $3,520,000 is expected to be available for these competitive awards. Applications will be accepted in three priority areas: (1) Child Care Research Collaboration and Archive (CCRCA); (2) Evaluation of Promising Models and Delivery Approaches to Child Care Provider Training; and (3) Child Care Research Scholarship grants.

Closing Date: The closing date for postmark of applications is August 25, 2003. Regardless of the method by which they are delivered, applications must be postmarked on or before the deadline date. Applications postmarked after the closing date will be classified as late, regardless of when they are received. Applicants are cautioned to retain proof of postmark date. ACF cannot accept applications by fax or through other electronic media.

Deadline: Mailed applications will be considered as meeting the deadline if they are postmarked on or before the deadline date to the ACYF Operations Center at the address below. Applications hand carried by applicants, applicant couriers, other representatives of the applicant, or by overnight/express mail couriers will be considered as meeting the deadline if they are received at the ACYF Operations Center on the deadline date, between the hours of 8 a.m. and 4:30 p.m., EDT, Monday through Friday (excluding Federal holidays). This address must appear on the package containing the application. Applicants are cautioned to retain proof of postmark or pick-up by courier.

Late Applications: Applications that do not meet the criteria stated above will be considered late applications. The Administration for Children and Families (ACF) will notify each late applicant that its application will not be considered in the current competition.

Extension of Deadline: ACF may extend an application deadline for applicants affected by acts of God (such as floods and hurricanes), when there is widespread disruption of mail service, or for other disruption of services that affect the public at large (such as prolonged electrical blackout). Authority to waive or extend deadline requirements rests with the Chief Grants Management Officer.

Mailing and Delivery Instructions: Applications may be sent through the U.S. Postal Service, delivered by private courier, or hand delivered to the ACYF Operations Center at the address below. Applications delivered by hand must be received by the Operations Center no later than 4:30 p.m. Eastern Time Zone on the deadline date. Applicants will receive a confirmation postcard upon receipt of applications.

Child Care Bureau, ACYF Operations Center, Educational Services, Inc., 1150 Connecticut Ave., Suite 1100, Washington, DC 20036, ATTN: ACYF-PA-CCB-2003-02, Priority Area:_______, Phone Number: 800-351-2293, E-mail Address: CCB@ESILSG.ORG.

Notice of Intent to Submit Application: If you intend to submit an application, please e-mail the ACYF Operations Center. Please include the following information: the number and title of this announcement; the priority area in which you intend to apply, your organization's name and address, and your contact person's name, title, phone number, fax number, and e-mail address. This notice is not required but is strongly encouraged. The information will be used to determine the number of expert reviewers needed to evaluate applications and to update the mailing list for future program announcements.

FOR FURTHER INFORMATION CONTACT: For information about the application process, contact the ACYF Operations Center at the above address or phone 1-800-351-2293. For program information, contact: Karen Tvedt, Child Care Bureau Director of Policy and Research at ktvedt@acf.hhs.gov or 202-401-5130. The mailing address is Room 2046, Switzer Building, 330 C Street, SW., Washington, DC 20447. The fax number is 202-690-5600. For grants information, contact Sylvia Johnson, Grants Management Officer, syjohnson@acf.hhs.gov or 202-401-4529.

SUPPLEMENTARY INFORMATION: The Supplementary Information section consists of five parts. Part I provides general information about the Child Care Bureau, its research agenda, authorities, funding priorities, and the application process. Part II describes the Child Care Research Collaboration and Archive (Priority Area 1). Part III describes the Evaluation of Promising Models and Delivery Approaches to Child Care Provider Training (Priority Area 2), and Part IV describes the Child Care Research Scholars (Priority Area 3). Part V includes two appendices that include all requirements for applications. Appendix 1 provides detailed instructions for preparing and submitting applications. Appendix 2 contains the OMB-approved Uniform Project Description.

Table of Contents

Part I. General Information

A. Purpose

B. Child Care Bureau

C. Statutory Authority and Other Citations

D. Priority Areas, Number of Awards, Project Duration, and Funding Levels

E. Eligible Applicants for All Priority Areas

F. Proof of Non-Profit Status

G. Application Process

H. Proposal Review, Selection, and Award

I. Type and Frequency of Post-Award Reporting Requirements

Part II. Child Care Research Collaboration and Archive (Priority Area 1)

A. Purpose

B. Eligible Applicants

C. Type and Number of Awards

D. Project Duration and Budget Period

E. Funding Levels and Maximum Federal Share

F. Matching Requirements

G. Federal Role

H. Project Description

I. Evaluation Criteria

Part III. Evaluation of Promising Models and Delivery Approaches to Child Care Provider Training (Priority Area 3)

A. Purpose

B. Eligible Applicants

C. Type and Number of Awards

D. Project Duration and Budget Periods

E. Funding Levels and Maximum Federal Share

F. Matching Requirements

G. Federal Role

H. Project Description

I. Narrative Statement Requirements

J. Evaluation Criteria

Part IV. Child Care Research Scholars (Priority 3)

A. Purpose

B. Eligible Applicants

C. Type and Number of Awards

D. Project Duration and Budget Periods

E. Funding Levels and Maximum Federal Share

F. Matching Requirements

G. Transferability

H. Additional Requirements

I. Evaluation Criteria

Part V. Appendices

Appendix 1. Contents and Format of the Application

Appendix 2. Uniform Project Description

Part I. General Information

A. Purpose

The purpose of this program announcement is to fund cooperative agreements and grants that will increase the capacity for child care research at national, State, and local levels while simultaneously answering critical questions with implications for children and families, particularly low-income working families and families transitioning off welfare.

B. Child Care Bureau

The Child Care Bureau (CCB) was established in 1995 to provide leadership in efforts to enhance the quality, affordability, and supply of child care available for all families. The Child Care Bureau administers the Child Care and Development Fund (CCDF), a $4.8 billion child care program that includes funding for child care subsidies and activities to improve the quality and availability of child care.

The Bureau works closely with ACF Regions, States, Territories and Tribes to assist with, oversee, and document implementation of new policies and programs in support of State, local, and private sector administration of child care services and systems. In addition, the Bureau collaborates extensively with other offices throughout the Federal government to promote integrated approaches, family-focused services, and coordinated child care delivery systems. In all of these activities, the Bureau seeks to enhance the quality, availability, and affordability of child care services, support children's healthy growth and development in safe child care environments, enhance parental choice and involvement in their children's care, and facilitate the linkage of child care with other community services.

Since 2000, Congress has appropriated approximately $10 million per year for child care research and evaluation through CCDF. The Bureau's FY 2003 child care research agenda will continue ongoing projects and launch new evaluation and research capacity-building initiatives. The activities supported through this announcement will provide information and data to guide child care services, inform policy discussions, and assist in developing solutions to complex child care issues. We intend to improve our capacity to respond to questions of immediate concern to policy makers, strengthen the child care research infrastructure, and increase knowledge about the efficacy of child care policies and programs in providing positive outcomes for children and families.

C. Statutory Authority and Other Citations

Statutory authority: The Child Care and Development Block Grant Act of 1990 as amended (CCDBG Act), 45 CFR part 74; section 418 of the Social Security Act; Consolidated Appropriations Act, 2003 (Pub. L. 108-7).

Paperwork Reduction Act of 1995 (Pub. L. 104-13): Public reporting for this collection of information is estimated to average 30 hours for the Child Care Research Collaboration and Archive, 30 hours for the Evaluation of Promising Models and Delivery Approaches to Child Care Provider Training, and 15 hours for the Child Care Research Scholars, including time for reviewing instructions, gathering and maintaining data needed, and reviewing the collection of information.

The project description is approved under OMB control Number 0970-0139 which expires 12/31/03. An agency may not conduct or sponsor, and a person is not required to respond to, a collection of information unless it displays a valid OMB control number.

Code of Federal Domestic Assistance: The Code of Federal Domestic Assistance (CFDA) number for all priority areas is 93.647.

D. Priority Areas, Number of Awards, Project Duration, and Funding Levels

In Fiscal Year 2003, the Child Care Bureau anticipates funding approximately six new projects in three priority areas, pending availability of funds and receipt of satisfactory applications. Funding beyond the first one-year budget period, but within the project period, will be entertained in subsequent years on a noncompetitive basis, subject to the availability of funds, satisfactory progress of the grantee, and a determination that continued funding would be in the best interest of the Government.

Priority Area 1. Child Care Research Collaboration and Archive: One cooperative agreement for five years at up to $1,500,000 per year.

Priority Area 2. Evaluation of Promising Models and Delivery Approaches to Child Care Provider Training: One cooperative agreement for four years at up to $1,900,000 per year.

Priority Area 3. Child Care Research Scholars: Approximately four grants of up to $30,000 each (for a total investment of up to $120,000 in fiscal year 2003). Scholarship grants may receive continuation funding of up to $20,000 each for a second year.

E. Eligible Applicants for All Priority Areas

Eligible applicants for Priority Areas 1 and 2 include non-profit agencies and organizations, public and private institutions such as colleges and universities, and agencies of State and local government. Faith- and community-based organizations are encouraged to apply as are profit-making organizations that agree to forego their profits.

Eligible applicants for Priority Area 3 include universities or colleges (including faith-based institutions) acting on behalf of graduate students who are pursuing a doctorate and who anticipate completing a child care-related dissertation. The institution must be fully accredited by one of the regional accrediting commissions recognized by the Department of Education and the Council of Post-Secondary Accreditation.

F. Proof of Non-Profit Status

Any non-profit organization submitting an application must submit proof of its non-profit status at the time of submission. The non-profit organization can accomplish this by providing a copy of its entry in the Internal Revenue Service's (IRS) most recent list of tax-exempt organizations described in Section 501(c)(3) of the IRS code, or by providing a copy of the articles of incorporation bearing the seal of the State in which the corporation or association is domiciled, or any of the items above for a State or national parent organization with a statement signed by the parent organization that the applicant organization is a local non-profit affiliate. Private, non-profit organizations are encouraged to submit with their applications the optional survey located under “Grant Manuals & Forms” at http://www.acf.hhs.gov/programs/ofs/forms.htm.

G. Application Process

This announcement includes all of the information needed to apply for funding in each of the priority areas. Detailed instructions for preparing and submitting applications are contained in the appendices.

Applicants are cautioned to follow the prescribed content and format in preparing their application packages. Each priority area describes the purpose, goals, technical requirements, and evaluation criteria against which proposals will be reviewed. The Standard Federal Forms that must be included in applications can be downloaded from the Internet at http://www.acf.hhs.gov/programs/ofs/.

Applicants are also cautioned to pay special attention to the preparation of their Project Narrative Statement. This section of the proposal describes the applicant's technical approach, management plan, and detailed budget. It thus contains most of the information on which applications will be competitively reviewed. The Project Narrative Statement will be evaluated according to evaluation criteria outlined in each priority area and the Uniform Project Description contained in Appendix 2.

H. Proposal Review, Selection, and Award

1. Each application will be screened to determine whether the applicant organization is eligible as specified in each of the priority areas. Applications from ineligible organizations will be excluded from the review.

2. The review will be conducted in Washington, DC. Expert reviewers will include researchers, Federal or State staff, child care administrators, and other individuals experienced in child care research and evaluation. A panel of at least three reviewers will evaluate each application to determine the strengths and weaknesses of the proposal in terms of the Bureau's research goals and expectations, requirements for the Project Narrative Statement, and evaluation criteria for the priority area under consideration.

3. Given the involvement of non-Federal reviewers, applicants have the option of omitting from the application copies (but not the original), specific salary rates or amounts for individuals specified in the application budget and Social Security Numbers, if otherwise required for individuals. If the applicant omits individual salary information on application copies, the copies must include summary salary information.

4. Panelists will provide written comments and assign numerical scores for each application. The indicated point value for each criterion is the maximum numerical score for that criterion. The assigned scores for each criterion will be summed to yield a total evaluation score for the proposal.

5. In addition to the panel review, the Child Care Bureau may solicit comments from other Federal offices and agencies, States, non-governmental organizations, and individuals whose particular expertise is identified as necessary for the consideration of technical issues arising during the review. The Bureau will consider their comments, along with those of the panelists, when making funding decisions. The Bureau will also take into account the best combination of proposed projects to meet overall research goals.

6. The Commissioner, Administration on Children, Youth and Families (ACYF) will make the final selection of the applicants to be funded. Applications may be funded in whole or in part depending on: (1) The rank order of applicants resulting from the competitive review; (2) staff review and consultations; (3) the combination of projects that best meets the Bureau's research objectives; (4) the funds available; and (5) other relevant considerations.

7. Selected applicants will be notified through the issuance of a Financial Assistance Award. That document establishes the funding level, terms and conditions of the award, reporting requirements, effective date of the award, budget period for which support is given, and the total project period for which support is provided.

8. Grants to successful applications will be awarded by September 30, 2003. Applications for continuation grants funded under this award will be entertained in subsequent years on a non-competitive basis subject to the availability of funds, satisfactory progress of the grantee, and a determination that continued funding would be in the interest of the government.

I. Type and Frequency of Post-Award Reporting Requirements

All grantees will be required to submit semi-annual progress reports that describe major accomplishments during the previous six months, plans for the next six months, problems or difficulties encountered and plans for their resolution, significant research findings, and dissemination activities. Grantees will also be required to submit semi-annual fiscal reports on the Standard Federal Form 269, long version. A final report documenting the project activities and results will be required at the end of the grant.

Part II. Child Care Research Collaboration and Archive (Priority Area 1)

A. Purpose

The purpose of this priority area is to seek qualified applicants for a cooperative agreement to launch and operate the Child Care Research Collaboration and Archive (CCRCA), a knowledge management and support system for the child care field.

B. Eligible Applicants

Eligible applicants include non-profit agencies and organizations, public and private institutions such as colleges and universities, and agencies of State and local government. Faith- and community-based organizations are eligible to apply, as are profit-making organizations that agree to forego their profits.

C. Type and Number of Awards

One cooperative agreement will be funded.

D. Project Duration and Budget Period

The project period will extend up to five years. The award, on a competitive basis, will be for a one-year budget period. Applications for continuation grant funds will be entertained in subsequent years on a noncompetitive basis, subject to availability of funds, satisfactory progress of the grantee, and a determination that continued funding would be in the best interest of the government.

E. Funding Levels and Maximum Federal Share

It is anticipated that up to $1,500,000 will be available for this Cooperative Agreement in Fiscal Year 2003. Up to $1,500,000 may be awarded in each succeeding 12-month budget period. The maximum Federal share is 90 percent of total project costs.

F. Matching Requirements

The successful applicant must provide a non-Federal match of 10 percent of total project costs. The total approved project cost is the sum of the Federal share and the non-Federal share. Therefore, a project requesting $1,500,000 in Federal funds must include a match of at least $166,667 for a total project cost of $1,666,667. (To compute the non-Federal share divide the Federal share by .90 and subtract the Federal share from that amount.) Applicants are encouraged to contribute resources beyond the required match. Funding partnerships that significantly extend the scope and reach of the project are especially encouraged. Applicants should provide letters of commitment from organizations or agencies verifying the actual amount of non-Federal support to the project. Grantees will be held accountable for commitments of non-Federal resources even if over the amount of the required match. Failure to provide the amount will result in disallowance of Federal match.

G. Federal Role

A cooperative agreement is Federal assistance in which substantial Federal involvement in project activities is anticipated. Responsibilities of Federal staff and the successful applicant are negotiated prior to award. The Child Care Bureau and the grantee will work collaboratively on the development of products such as work plans, technical assistance materials, summaries or literature reviews, decisions about data sets to be archived, and other technical matters. The Bureau will also participate in the Technical Work Group and will work closely with the grantee to promote partnerships and collaborative research, both within the Child Care Policy Research Consortium and with other potential partners. In addition, the Bureau will assist with technical assistance activities as appropriate and needed.

H. Project Description

The Child Care Research Collaboration and Archive (CCRCA) is the national research knowledge management system of the Child Care Bureau. The developmental phase of the CCRCA is being carried out through Contract Number 90-00-0009 by BRI Consulting Group, Inc. (BRI) and their subcontractor, the National Center for Children in Poverty (NCCP). This contract will end on September 30, 2003, at which time all products, hardware and software will be transferred to the organization awarded the cooperative agreement under this announcement.

During the operational phase, the CCRCA will be publicly launched and marketed to a range of contributors, users, and partners. Functions established in the developmental phase will be continued and enhanced. New functions and activities will be developed to respond to the emerging needs of stakeholders.

A project description and conceptual design of the CCRCA are available through the ACYF Operations Center at the address above.

Goals

The CCRCA has five interrelated goals that link its three functional components:

1. Operating a state-of-the-art, web-based child care and early education research archive with ongoing development of background content, ready access to data sets for secondary analysis, technical assistance for contributors and users, strong linkages with other archives and information systems, and ongoing synthesis of data into useful information and knowledge.

2. Promoting collaboration and partnership building for child care and early education research and policy analysis to facilitate information-sharing and use of research findings by researchers, policy makers, and other key stakeholders.

3. Developing and providing technical assistance to assist data contributors, technical analysts, and end users of research information.

4. Making sound child care research findings available to researchers and the public in accessible language and formats.

5. Encouraging the use of research-based information by policy makers, practitioners, providers, parents, and others with an interest in child care and early education issues.

Functional Components

The CCRCA consists of three functional components: (1) An interactive web-site through which the public can gain easy access to research reports, summaries, and other related documents designed for end-users of research; (2) a topical archive of data sets from major child care research and evaluation studies with related metadata elements and other technical features; and (3) a technical assistance and support system to improve the quality of data, assist researchers in developing analytic skills, facilitate collaboration, and create a stronger research infrastructure.

Component 1. The Interactive Web Site

The most visible component of the CCRCA will be the interactive web site. The largest group of web-site users will be individuals or organizations whose primary functions and goals relate to child care research. Important categories of users include child care providers and administrators; legislators and policy analysts; child development specialists and educators; psychologists and pediatricians; economists and community planners; professors and students; community child care organizations such as resource and referral agencies; parents and consumer groups; and businesses and civic planners.

Given the large number and diversity of end users from beyond the research community, the CCRCA must be concerned with ensuring that findings on a wide variety of topics are easily searchable and accessible in formats that meet the needs of different constituencies. In addition to published technical reports and articles, selected findings must be translated into user-friendly formats such as special charts, briefing papers, on-line newsletters, and other summaries that are accessible to non-technical audiences.

Researchers who wish to conduct secondary analyses of archival data sets, and have a variety of technically oriented information needs, will be able to download data through the web-site, join electronic theme groups, and participate in a variety of research networks, along with other researchers around the country. This group will be supported through the CCRCA components described below.

Component 2. The Research Database and Data Archive

The primary function of the CCRCA is to maintain and further develop a web-based database of research and related products. This database is intended to improve access to child care and related early education data, promote the use of archival data for analysis, and facilitate the utilization of research findings by policy makers, practitioners, academics, parents and other stakeholders. A prominent feature of the archive is that products will reside in the CCRCA's content database or in other locations, but will be accessible in a seamless manner through the CCRCA web site. These relationships with other archives and information systems also form part of the infrastructure for collaboration and networking among the various stakeholders.

The underlying structure of the archive consists of specially processed and documented research products and data sets linked to a comprehensive child care taxonomy which includes a searchable database, metadata elements that describe and categorize archive holdings, and an indexing system. These features interface with end users through the interactive web site.

Taxonomy. During the developmental phase, a taxonomy of child care terms and variables was developed for the CCRCA's underlying database. This feature is designed to allow end users of the web-site to conduct sophisticated searches with ease. The taxonomy will be continually expanded and refined during the operational phase as research products are added to the archive and new variables are identified.

Metadata—or data about data—that describe archive holdings were developed in accordance with Data Documentation Initiative (DDI) standards used by nationally recognized archives and information systems. As new products are acquired and indexed in the CCRCA, the metadata will continue to evolve.

Documents. During the developmental phase, more than 2,000 research documents were identified and catalogued for inclusion in the CCRCA data base. Abstracts and other information about these documents will be available through the CCRCA Web site and, where possible, the full text of the documents will be available to users. Through ongoing efforts, including coordination with researchers and other organizations, the grantee will continuously expand CCRCA holdings.

Data Sets. A major function of the CCRCA will be to process, house, and preserve quality data sets and related documents from studies on child care and early care and education, either directly or in partnership with other archives. The CCRCA currently holds two data sets that have been processed to make them useable and accessible to the larger research community. Data processing includes: sub-setting of child care-relevant variables and formatting for easy download to statistical packages for analyses; variable labeling; application of weights; and maintenance of subject confidentiality. The amount of data processing required before inclusion in the CCRCA will vary depending on the number and types of variables in a data set and the amount of processing completed by the owner of the data prior to submission.

Special Topic Archive. During the developmental phase, the CCRCA subcontracted with the Inter-University Consortium for Social and Political Research (ICPSR) at the University of Michigan to develop a special topic archive (STA) for the CCRCA. The intent was to use the established, ongoing services of ICPSR to begin processing important policy-relevant data sets and making them web-accessible to the research community. The grantee will be expected to support and further develop the CCRCA special topic archive or offer a comparable arrangement to maintain and expand these services. The Statement of Work between ICPSR and BRI Consultants can be obtained through the ACYF Operations Center listed above.

Data Standards and Documentation. The archive also sets standards and establishes procedures for documentation of data sets. Early in the operational phase, data documentation and code books will be developed for archived data sets to make these data readily available to other researchers and facilitate secondary analysis. A related goal is to increase the average quality of child care research through systematic improvements in the underlying quality of data.

Content Development. Once the archive is operational, data contributors and end users of research will be able to access data and published research, as well as special materials such as research summaries or methodology briefs. This activity will involve ongoing acquisitions and development to ensure that the needs of contributors and users are met.

Data Contributors. Any child care investigator, regardless of the funding source, is encouraged to house data with the CCRCA. Since 2000, all research grantees funded by the ACYF Child Care Bureau have been required to plan for the archiving of their data. The intent is that grantees will prepare their data sets according to sound data processing and documentation practices, and house those data sets at the CCRCA within two years after the end of their funding period. The CCRCA will provide technical support to contributors regarding data entry, processing, analysis, and documentation. Apart from research that is sponsored by the Child Care Bureau, there are a large number of studies underway or recently completed that focus on child care or early education or contain relevant variables. Thus, the archive will increasingly house analytic data sets from a variety of sources. For example, the CCRCA might archive specially prepared analytic data sets from State child care agencies or networks of resource and referral agencies; large data sets from major Head Start studies or national surveys with child care variables; or small local studies. A “Handbook for Data Contributors” was created under the development contract and will be available for dissemination early in the operational phase.

Data Users. Many researchers will use the CCRCA to access public data sets for secondary analysis. The CCRCA must maintain a system of data access for primary data sets as well as specially constructed analytic files and interactive tools. For example, some researchers might need to extract child care data from national longitudinal studies in which child care is embedded in a larger set of issues. Some may need to combine child care data from two or more data sets to create a linked data file. Others may need to conduct simple analyses of large data sets like national census estimates or State administrative data. Support for data users will continue to grow over the next several years, as the CCRCA becomes known to a wider set of technically sophisticated users.

Component 3. Technical Assistance and Collaboration

The Technical Assistance and Collaboration component provides interface and support for data contributors and users as well as for the Child Care Policy Research Consortium and other collaborative endeavors undertaken by the Child Care Bureau.

Technical Assistance

Early in the operational phase, the CCRCA will establish technical support for the archive, much of it delivered through on-line services. This function will include such features as:

• Frequently asked questions and answers;

• An e-mail help desk;

• Short briefing papers on common technical issues;

• Prototypical research designs and methodological applications developed to encourage new researchers and promote a high standard of quality in emerging studies;

• Innovative tools such as CD-ROMs and a range of ready-to-use formats that make archived data sets more easily accessible to the research community;

• Information on CCRCA services, products and new acquisitions;

• Technical guidelines for data processing and access.

• Electronic mail services to facilitate networking and information exchange among researchers, policy makers, and other stakeholders; and

• Access to a database on designs and measures for researchers in this field.

The CCRCA will also provide training and technical assistance opportunities by conducting technical roundtables for researchers working on special data sets such as child care administrative data from the States. Other opportunities might include training institutes that convene a small number of researchers to work in a guided setting with important national data sets. Support for secondary analysis of various data sets in the CCRCA can be provided through these training institutes as well as through small grants. Support might also be provided for graduate students or postdoctoral fellows to work in residence with archive staff on research related to the holdings.

Workshops and training sessions will be convened at major national conferences. In particular, the CCRCA will conduct sessions at the Child Care Bureau's annual Child Care Policy Research Consortium meeting and its annual meeting of State Child Care Administrators. While some technical assistance activities will be supported through this Cooperative Agreement, others may require outside resources, including other funding partners and fee for service arrangements.

Collaboration and Infrastructure Building

The CCRCA will create a national infrastructure for child care research. A major function of this effort will be to facilitate collaboration among researchers to build knowledge, facilitate networking and thematic work across projects; and provide a vehicle for peer technical support and scientific advancement. A related function is to increase interaction and mutual support between the research and policy communities. As researchers try to make their studies more relevant for policy and practice, policy makers will be able to make better use of the findings. These relationships can be nurtured and significantly strengthened through activities of the Technical Assistance and Collaboration component.

The CCRCA will participate as a member of the Child Care Policy Research Consortium and provide limited support for consortium-wide initiatives. The CCRCA will participate in activities of the consortium steering committee and assist with note taking and preparation of summary documents resulting from conference calls, research forums, or major meetings. The CCRCA will support participants in the annual meeting of the consortium with technical workshops and small group discussions, as well as on-site document preparation and organization of materials to lend depth and breadth to the discussions. (Logistical support for the meeting will be supplied by the Child Care Bureau's Conference Management Center). The CCRCA will also assist with planning for meetings and briefings, coordinating the work of thematic work groups for cross-cutting research, and preparation of proceedings or other summary documents.

As part of this function, the CCRCA will maintain the consortium list-serve, including various subgroups working on cross-cutting themes. In this regard, collaborative efforts may be broadened to include research organizations and individuals outside of the consortium. To support this cross-fertilization of research and partnership building, the CCRCA will set up and manage web-based theme groups of researchers who are working on key issues. Topics of interest currently include early learning and literacy, improvement of quality and development of the child care workforce, child care subsidy and other policy issues, dynamics of supply and demand in child care markets, and family decisions in diverse cultural contexts and socioeconomic conditions.

The CCRCA will also provide limited analytic support to State child care agencies. The CCDF Lead Agencies make difficult program and policy decisions about how services should be targeted and how limited quality funds should be spent. To assist States in making decisions that are informed by the soundest information possible, the CCRCA will translate research findings into briefing papers, power point presentations and other formats. Other forms of support might include statistical analysis of national data sets containing child care related variables and policy research forums.

I. Evaluation Criteria

Eligible applications will be scored competitively against the published evaluation criteria described below. These criteria will be used in conjunction with the other expectations, priorities and requirements in this announcement to evaluate how well each proposal addresses the Child Care Bureau's research agenda and goals. The point values indicate the maximum numerical weight for each criterion (100 total points).

Criterion 1. Approach (40 Points)

The extent to which the applicant's technical approach:

Appropriately links CCRCA goals, objectives, activities and performance indicators to ensure successful operations, ongoing development, and public acceptance.

Demonstrates the ability to effectively implement and coordinate the functional components of the CCRCA to promote high quality and useful research, make research data and products easily accessible, significantly improve the research infrastructure, and support the Child Care Bureau and its Child Care Policy Research Consortium.

Describes the technical specifications of the information technology system that will be developed or sustained to support the web-based functions of the CCRCA and addresses issues related to ACF information technology requirements for project boundaries, data security, risk analysis, operational concepts, functional requirements, systems design, deployment plans, and performance standards.

Provides a detailed description and rationale for the range of topics to be included in the CCRCA archive, the types of data sets that currently exist and are anticipated; and which among these should be given priority for inclusion in the CCRCA.

Demonstrates an awareness of current activities being undertaken in the field of data archiving, web site management, technical assistance and collaboration; describes how the approach being proposed would build on or coordinate with this work.

Demonstrates an understanding of the technical issues and problems associated with a national data archive; describes the strengths and limitations of existing approaches; and proposes effective solutions to a full range of issues. Important issues include, but are not limited to, multiple archiving of individual data sets; technical problems with data sets such as poor variable definitions, small sample sizes, and missing data; delimitation of public access to data; piecemeal publication of data sets and documents related to a single study; masking of individual identifiers and protection of confidentiality; legal issues of liability; and terms-of-use agreements.

Describes a plan for effectively partnering with other research and data archives, knowledge management, and information systems; funding partners; and research consortia, professional associations, or other relevant bodies whose members represent target users of the CCRCA.

Discusses the relationship of archiving to the protection of human subjects, informed consent, protection from research risks, and Institutional Review Boards (IRB). Addresses the relationship of the funded archive to Institutional Review Boards and the Department of Health and Human Services Office for Protection from Research Risks and Certificates of Confidentiality, specifically.

Proposes an effective approach to technical assistance for contributors and users of the CCRCA, showing how the technical assistance plan relates to and promotes each of the other components.

Describes the composition and role of an advisory group in support of the work of the CCRCA.

Proposes an effective plan to increase collaboration and partnership-building at national, Statewide and local levels, support researchers and other stakeholders in their efforts to build effective partnerships, and promote collaboration in a variety of environments, such as colleges and universities, State and local child care agencies, and child care organizations.

Proposes approaches that reflect cultural sensitivity to the issues being addressed.

Identifies possible barriers to achieving the proposed results and benefits and describes effective strategies for addressing these barriers.

Provides assurance that, should the occasion arise, all products acquired, developed or maintained during the term of the cooperative agreement will be passed on to ACF or the subsequent CCRCA grantee.

Criterion 2. Staff and Organizational Profiles (25 Points)

The extent to which the applicant:

Commits to an adequate number of staff with the expertise to carry out the project with a high level of accomplishment, on time, and within budget.

Proposes a project director and key staff with highly relevant skills, knowledge and experience. Brief resumes of the current and proposed staff, as well as job descriptions demonstrate the ability of the proposed staff to fulfill key roles. Resumes indicate what position each individual will fill and position descriptions specifically describe each job as it relates to the proposed project.

Describes university or agency support, if applicable, to the organizational capabilities required for implementation of this activity.

Describes organizations and consultants who may work on the program along with a short description of the nature of their effort or contribution.

Provides information on plans for training project staff as well as staff of cooperating organizations and individuals, if needed.

Provides a detailed management plan, with personnel allocations, tasks and subtasks, products, timelines, and coordination of components, that shows how the proposed project goals will be accomplished and provides a means of monitoring progress, accomplishments, and shortfalls.

Describes the relationship between the proposed project and other work planned, anticipated or underway by the applicant with Federal assistance.

Demonstrates sufficient resources and appropriate facilities to successfully implement, manage and further develop the CCRCA.

Includes letters of intention from any subcontractors or primary consultants.

Criterion 3. Objectives and Need for Assistance (15 Points)

The extent to which the applicant:

Demonstrates an awareness of current issues and initiatives in child care research, policy and practice, technical assistance, and collaboration; as well as the interrelationships among these broad functions.

Describes the need for an integrated system to further research, knowledge, and collaboration in the field of child care and early care and education.

Describes the relationships among the interactive web site, the research database and data archive, and the technical assistance-collaborative components of the project.

Discusses current issues in archiving including, but not limited to, topics such as the world-wide web, dissemination strategies, liability, confidentiality, and terms-of-use agreements.

Describes the audience of CCRCA contributors and users, estimates their number, describes their needs, and presents a sound growth model with estimates of increased annual usage and costs.

Criterion 4: Results or Benefits Expected (10 Points)

The extent to which the applicant:

Identifies the results and benefits of the proposed project to enhance policy, improve practice, and advance science in child care research.

Describes how the proposed approach to the CCRCA would contribute to overall efforts to improve child care services and systems, the development and well-being of children, and particular outcome measures, as applicable.

Discusses the significance to the field of the proposed project and describes why the proposed approach is innovative.

Provides a set of performance measures designed to demonstrate how well the goals and objectives of the CCRCA are being met.

Describes how technical assistance plans will benefit contributors and users of the CCRCA including the Child Care Bureau, members of the Child Care Policy Research Consortium and other members of the child care research and policy communities.

Describes how the proposed project will significantly increase collaboration and partnership building among researchers, policy makers, and other stakeholders at national, State, and local levels.

Criterion 5. Budget and Budget Justification (10 Points)

The extent to which the applicant:

Provides a narrative description and sound rationale for the budget information presented on Standard Forms 424 and 424A and related budget tables presented in the text.

Demonstrates that costs to operate the CCRCA are reasonable, adequate and justified in terms of the proposed tasks and subtasks as well as results and benefits.

Includes sound fiscal control and accounting procedures to ensure prudent use, proper and timely disbursement and accurate accounting of funds received under this program announcement.

Part III. Evaluation of Promising Models and Delivery Approaches to Child Care Provider Training (Priority Area 2)

A. Purpose

The purpose of this project is to identify and test a training model and alternative delivery approaches that show promise for improving the knowledge, skill and performance of child care providers.

B. Eligible Applicants

Eligible applicants include non-profit agencies and organizations, public and private institutions such as colleges and universities, and agencies of State and local government. Faith- and community-based organizations are eligible to apply, as are profit-making organizations that agree to forego their profits.

C. Type and Number of Awards

One cooperative agreement will be awarded.

D. Project Duration and Budget Periods

The project period will extend up to four years (September 30, 2003 through September 29, 2007). The award, on a competitive basis, will be for a one-year budget period. Applications for continuation funds will be entertained in subsequent years on a noncompetitive basis, subject to availability of funds, satisfactory progress of the grantee, and a determination that continued funding would be in the best interest of the government.

E. Funding Levels and Maximum Federal Share

The Child Care Bureau intends to commit a maximum of $1.5 million and the Office of the Assistant Secretary of Planning and Evaluation intends to commit a maximum of $400,000 for a total of $1.9 million for the first year and each subsequent year of the award, for a maximum total of $7.6 million. The maximum Federal share is 90 percent of total project costs.

F. Matching Requirements

Non-Federal matching funds of at least 10 percent of total project costs will be required. The total approved project cost is the sum of the Federal share and the non-Federal share. Therefore, a project requesting $1,900,000 in Federal funds must include a match of at least $211,111 for a total project cost of $2,111,111. (To compute the non-Federal share divide the Federal share by .90 and subtract the Federal share from that amount.) Applicants are strongly encouraged to contribute additional cash or in-kind resources.

Applicants are encouraged to offer funding partnerships that significantly extend the scope and reach of the project. For example, the applicant might include a partnership with an organization that has funding to provide child care provider training. Applicants should provide letters of commitment from organizations or agencies verifying the actual amount of non-Federal support to the project.

Grantees will be held accountable for commitments of non-Federal resources even if these exceed the amount of the required match. Failure to provide the amount will result in disallowance of Federal match.

G. Federal Role

A cooperative agreement is Federal assistance in which substantial Federal involvement in project activities is anticipated. Responsibilities of Federal staff and the successful applicant are negotiated prior to award. The Bureau and the grantee funded under this priority area will work collaboratively to facilitate accomplishment of project goals, including development of the final technical approach and study design, selection of core measures, and the establishment of the Steering Committee and Technical Work Group. The Bureau will also facilitate collaboration with other research grantees and contractors.

H. Project Description

The cooperative agreement under this priority area will support a multi-year research initiative to design, implement, manage, and coordinate the evaluation of a child care provider training model under varying conditions. A “promising model” is defined as one with at least preliminary evidence of effectiveness in small-scale interventions or for which there is potential for generating data that will be useful for making decisions about taking the intervention to scale and generalizing the results to diverse populations and settings. Provider populations of interest include family home providers, informal care providers (such as family, friends and neighbors), and center staff who are entry-level or have minimal qualifications.

The training model should include one or more focal areas such as supporting children's development in specific domains, promoting positive outcomes in linguistically or culturally diverse populations, or managing children's behavior. A promising model might be tested in different geographic locations; among providers of differing social, economic, educational, or cultural characteristics; or with providers who serve children and families with special characteristics and needs. Where a single training model would be used, variations in the delivery of training might be included in the evaluation.

The Child Care Bureau is especially interested in training models that promote excellence among providers who serve children and families with special needs and challenges. Examples include (1) infants and toddlers; (2) families eligible for assistance through the Child Care and Development Fund and related State and Federal funding sources; (3) ethnic and language minority groups; (4) children with disabilities; and (5) other groups that may present special challenges or needs.

The cooperative agreement will be awarded to an organization acting as evaluation coordinator (grantee), which will select three-to-four study sites according to the project design. Site selection will be finalized with input from the Child Care Bureau. The evaluation coordinator will provide project direction, support, and coordination across sites. This structure is intended to facilitate the sharing of ideas, measures, data, and other specialized resources as well as collection of core data elements across study sites.

The evaluation coordinator will detail the specific roles of the evaluation coordinator in carrying out the proposed design, in managing the project, and in coordinating with the Child Care Bureau and other partners in the project. At least one study site will utilize a randomized controlled design in order to explore cause and effect relationships between the training model and child outcomes. Applicants should propose a preliminary list of study sites and describe the training intervention. The application should include letters of commitment from individuals representing the various study sites.

Funds will be provided under this cooperative agreement for research design, implementation fidelity, data collection, and analysis. Funding and delivery of the training intervention must be accomplished through a partnership with a State or local service partner. The intervention may be funded with CCDF quality funds, Early Learning Opportunity Act discretionary grants, or other funds as appropriate.

The evaluation coordinator will establish an advisory committee or technical work group with input from the Child Care Bureau. In consultation with this group, the evaluation coordinator will provide guidance and direction on decisions regarding the training intervention; design and methodology of the coordinated research study; selection of core measures and instruments; collection and analysis of core data; and preparation and reporting of findings from the integrated research study. The evaluation coordinator will provide technical support to the individual study sites on the training intervention; provide logistical support for meetings; and make materials available for the collection of core data across projects.

Each of the individual study sites will be responsible for the development, implementation and maintenance of the intervention. However, the evaluation coordinator will provide pre- and post-intervention direction related to data collection, the analysis of a core set of common cross-site baseline measures, and collection of family and child outcome data. The grantee will be responsible for ensuring implementation fidelity and data quality. Timely cross-site data will be returned to individual project researchers to serve as a basis for local analyses. Additional collection of data on specific measures used in the local sites may be carried out by the individual projects using project funds.

Each individual study site will ensure that training is delivered to the target population as proposed, and that core implementation and outcome data are identified and collected in consultation with the grantee. Data collection and management at each site will be the responsibility of an individual or organization charged with collecting the core set of measures designated for use in all sites and model variations. Additional collection of data on local measures and analyses of implementation and outcomes may be carried out by individual study sites. This arrangement allows local researchers to consider qualitative or other data collection approaches to augment the core measures.

The evaluation coordinator must ensure that each site has the capacity to develop, implement, and maintain the intervention taking into account important features of the training program and issues related to providers, families and children. This capacity may be provided directly by the grantee organization or through agreement with another organization.

I. Narrative Statement Requirements

The following section describes technical requirements for the Project Narrative Statement.

1. Technical Approach

The applicant will describe its proposed technical approach including an integrated evaluation design. The narrative must link conceptual, theoretical and technical elements of the design, including the selection of the training model or approach as well as plans for site selection and sampling, measurement, field implementation, data collection, and data analysis. Anticipated short-term and long-term outcomes must be described. Initial results regarding implementation fidelity and effectiveness of the training intervention on providers' skills and practices are expected at the end of the first year of training implementation. The design (and anticipated long-term outcomes) must include follow-up to evaluate retention of skills and practice and outcomes of the intervention for children and families. Completion of all data analyses and reports is expected in year four. Public use data files must be archived with the Child Care Research Collaboration and Archive (CCRCA) within 24 months after completion of the project.

The goal of this evaluation is to determine whether specific caregiver training models or approaches effectively improve the knowledge, skills, and practices of caregivers who have traditionally been left out of research and evaluation studies. Of special interest are family home providers, informal care providers (such as family, friends, and neighbors), entry-level center staff and center staff with minimal qualifications. There is a need for studies that are scientifically rigorous and at the same time feasible for the population under study. Studies should use methodologies that are as rigorous as possible, given the training intervention under study, the population being served, and the presence of potential mediating or confounding variables. Studies may use experimental designs, mixed-approaches or planned variations, but studies that rely solely upon descriptive data (whether qualitative or quantitative) are discouraged. The research design must be clearly articulated and there must be a rationale for including specific groups and sub-groups of care providers in different study groups. At least one study site will be expected to use randomized controlled design.

Three areas of complementary research are of particular interest:

• Studies that address how individual or background differences in providers interact with the training approach or model to influence provider outcomes. These studies would address the question: For which provider under which condition is the training approach or model most successful?

• Studies that compare different delivery methods of the training or model, or different approaches to implementation, in order to identify key features of the training approach or model that might improve effectiveness and ease of implementation. These studies would address the question: Under what circumstances does the training approach or model achieve the greatest impact?

• Studies that use randomized controlled designs that can address cause-effect relationships between training models and measured outcomes. These studies would address the question: what training models or training model components lead to positive changes in the competency of providers and outcomes for children and families?

Studies should incorporate measures of intervention fidelity for use as potential mediating variables in the analyses and to control for confounding. For studies using multiple comparison and/or control groups, measures describing the intervention must be included in the study design and/or data analysis plan to ensure that any differences in provider, child or family outcomes between treatment groups and control groups are directly attributable to the intervention. The studies should incorporate a suitable number of sites to provide sufficient variation to test relevant hypotheses.

2. Conceptual Framework

The conceptual framework presents the theory or underlying idea behind the training model being proposed for evaluation, describes how the training model was developed and used in the field, and why this model is considered worthy of evaluation. It also summarizes the proposed evaluation component, demonstrating the appropriateness and benefit of this approach for assessing the effectiveness of the training model for the target populations.

Training Model or Approach

This section should summarize key aspects of the proposed training model, including the training goals, the types of issues or variables included, the training process, the population of providers to which it applies, what provider outcomes are measured, and how success of the program is determined. If the training program has been formally studied, these studies and their outcomes should be described.

Training models to be considered for implementation and evaluation should include one or more specific areas of focus; for example:

• Training activities designed to improve the skills and practices of caregivers to enable them to support children's development in the area(s) of emerging literacy, language development, numeracy, social-emotional development, physical development, creative expression, and health;

• Training activities to promote skills and practices that would support positive outcomes in linguistically and culturally diverse populations;

• Training and professional development activities designed to enhance child behavior management or other care practices.

Target Populations

Provider Populations. The training approach or model should be targeted to family home providers (regulated and legally-exempt from regulation), informal care providers (such as family, friends and neighbors), and center staff who are entry-level or have minimal qualifications.

Child and Family Populations. The training model and approaches selected for the training intervention should take into account the effects that the theorized changes in skills and practice will have on outcomes for children of the ages served by providers in the sample. For example, some home-based providers care for only infants and toddlers or school-age children. Others have a wider range of children in their care. The training model should clearly point to improvements in practice that will affect children of those ages. Many children face special challenges that stem from cultural or language differences, especially if their families are recent immigrants and have not yet created a bridge between their native cultures and ways of life in America. In some communities, child care providers must relate to children of different cultures. Children with disabilities or special needs most often receive care in home-based settings and providers take on these challenges with very little training. More broadly, children from low-income families often face particular challenges as they prepare to enter school. The applicant should describe how changes in practice brought about by the training intervention will help providers support the physical, emotional, social, cognitive and linguistic skills of children with diverse characteristics in order to develop well and be successful in school.

The applicant should provide a detailed description of the training intervention and how it will be delivered to the target population. The expectation is that the funding and delivery of the training will be accomplished through a partnership with a State or local service provider. The cooperative agreement will fund the evaluation of the training implementation and the effects of the training on provider, child and family outcomes.

The creation of partnerships between the researchers and the appropriate State or local entities is key to the success of the implementation and evaluation of the project. When partnerships exist, or will be developed, applicants should describe the specific programmatic or data needs of the service delivery system, as well as existing data collection efforts, how these data will be used within the design of the proposed study, how the data will be augmented, and how the data will enhance the overall strength of the study.

Research Questions and Methodological Justifications

Intervention. What is the theoretical justification for the training intervention selected, and to what extent does the intervention adhere to its theoretical basis? What is the preliminary evidence that the approach will be effective? What are the expected short-term and/or longer-term outcomes for care providers, children and families? How is each component or combination of training components expected to affect children's outcomes? What are the mediating pathways through which the training model causes change in child outcomes (i.e., what is the logic model)? How are mediating variables and outcomes measured? What is the range of practices that are affected, either positively or negatively? To what extent can procedures be documented, and what is the process for achieving this? What is the range of activities to be undertaken? How does the training intervention differ from existing training opportunities available to the target population? What is the process of continuous improvement, and how are changes, and benefits of those changes, documented over time?

Effects of personal characteristics and site and community contexts. What structures and supports are needed to implement the training intervention? What key activities are needed to gain support from community stakeholders and collaborators? How should providers of different backgrounds or working in different settings be recruited into the study? What about the parents of children attending those settings? What are the contextual variables that might influence how the training intervention is implemented: e.g., culture, neighborhood characteristics, organizational climate, level of poverty in the community, provider backgrounds, education, motivation, skills and attitudes, levels of support (financial and otherwise), competing priorities in the lives of the targeted provider population? What are the relationships among the individuals who are stakeholders and/or participants in the intervention?

Sample. Who is expected to benefit from the training intervention? Is it a universal or selected intervention? Who are the intended participants (types of providers)? How are age, gender, language, socio-economic status and other key child care provider, child, or family characteristics, as well as cultural issues, addressed? To what populations can evaluation results likely be generalized?

Delivery of training intervention. Who gets what, from whom, and how much? What is the intensity of the intervention, the frequency of contact, the length of each contact, the number of contacts and the duration of the training intervention? To what extent is the program individualized, and what are the supports for individualization (e.g., periodic assessments of needs and progress). What is the level of participation, and who is most and least likely to participate? Who delivers the program? What is the level of education, training, and supervision that is required of training intervention staff? To what extent do external staff (researchers, program developers, trainers) have to remain involved, and in what capacities? What are the barriers to implementation, and how are challenges resolved? What duration, intensity, frequency, and types of ongoing support are necessary to sustain the program after the initial implementation period? What modifications and adaptations are made for care providers with specific challenges to participation to be successful?

3. Evaluation Design

Sampling Plan. The proposed sampling plan should describe technical aspects of sample construction at each level of analysis, including selection of sites, providers, and children, sample sizes and corrections for attrition, and procedures for maintaining sample integrity throughout the study. This plan should demonstrate an understanding of the various provider categories proposed for this evaluation and the challenges of sampling members of each group.

Measurement Plan. All measures proposed for use in the study must be fully described and justified with respect to their appropriateness for study goals, training variables, populations, use in previous studies, known psychometric properties, and other salient factors. The relationship between core measures and site specific measures must be described, as well as how the different levels of measurement will support and enhance one another analytically. The proposal should specifically describe the measurement variables to be included in the core assessment and those used in the site-specific assessment. How will this battery of measures contribute to both breadth and depth of understanding?

Field Operations and Data Collection Plan. This section of the design describes the procedures for collecting data, maintaining confidentiality, protecting human subjects, tracking field operations, and maintaining data quality control. Applicants should discuss problems that might be encountered in the field and the steps that would be taken to resolve them. The relationship between baseline data collection and data collected at other points should also be discussed.

Data Processing and Analysis Plan. The proposal should detail how data will be initially processed and data integrity assessed. This section should also describe the range of anticipated preliminary analyses, subsequent multivariate analytic analyses, and how results will be presented. Specific examples of table shells and analytic models should be provided. The analytic relationship between core data and site-specific data should also be described.

4. Public Use Data Sets and Archiving

The proposal must contain a plan for working with the Child Care Research Collaboration and Archive (CCRCA) and with the site researchers to ensure that public use data sets produced at the end of the project are of high quality, well documented and suitable for archiving. The public use data will be archived with the CCRCA within 24 months after the project ends.

5. Project Management Plan

The Project Management Plan describes specific roles and responsibilities of each major component, presents an overall management and coordination plan, outlines individual roles and responsibilities of key staff, and demonstrates the applicant's ability to carry out the project. Resumes for key staff or position descriptions should be included along with capability statements for all participating organizations. A detailed timeline with associated personnel for all proposed activities and products must be included.

Phasing of the Intervention and Evaluation. This project is conceptualized as proceeding through five phases carried out over four years. The first phase is a planning period during which the needs and strengths of the target population will be more fully described; intervention and evaluation plans will be finalized; and pilot studies conducted. Baseline information on provider, children, and family characteristics could also be collected. In the second phase, the training intervention will be implemented with the targeted population. Data on fidelity of implementation will be collected through the training intervention period. The third phase will involve the collection of data to test for the effectiveness of the implementation. Measures and instruments to assess changes in skills, knowledge and practices in the care provider as a result of the training intervention will be utilized across all project sites. The fourth phase involves collection of data to assess maintenance of skills and practices in the care providers as well as the effects of changes in practice on child and family outcomes. The fifth phase involves integration of data across projects, analyses of individual site and coordinated project data, and reporting of findings.

Steering Committee. The Steering Committee for this cooperative agreement will consist of key project staff from the Child Care Bureau, the Evaluation Coordinator, the Site Evaluators, and the organization in charge of training delivery. The purpose of the Steering Committee is to enable managers to coordinate various components in a collaborative and integrated manner, ensure that decisions reflect their diverse needs and perspectives, and resolve issues as they arise. Members of the Steering Committee will jointly consider issues encountered in finalizing and implementing the study design, including sample development, selection of core measures, training implementation, data collection and processing, quality control and data integrity, analysis, and reporting. The Steering Committee will meet three times a year in Washington, DC, and will engage in monthly conference calls. Members of the Steering Committee will also represent this evaluation in the Child Care Policy Research Consortium. The proposal should include a brief description of how the Steering Committee would function to maximize chances for success and enhance the value of this study.

Technical Work Group (TWG). In consultation with the Child Care Bureau, a TWG of experts will be established by the grantee. The TWG will provide technical assistance and feedback to the Steering Committee in development of the final study design, selection of core measures and site-specific measures, implementation of the training intervention, data collection and analysis. The TWG will meet twice in the first year of the project and annually thereafter. The proposal should include a list of individuals who might be asked to serve on the TWG along with a justification for the recommendations.

Meetings. Applicants should budget for three meetings each year in Washington, DC, with project coordinator, other individual project representatives, and Federal staff. At least one project representative and the evaluation coordinator should attend each two-day meeting. In addition, applicants should budget for one trip a year to Washington, DC, to attend the annual Child Care Policy Research Consortium meeting. The grantee and each individual project site should be represented at this three-day meeting.

J. Evaluation Criteria

Eligible applications will be scored competitively against the published evaluation criteria described below. These criteria will be used in conjunction with the other expectations, priorities and requirements in this announcement to evaluate how well each proposal addresses the Child Care Bureau's research agenda and goals. The point values indicate the maximum numerical weight for each criterion (100 total points).

Criterion 1. Approach (35 Points)

The extent to which the proposed approach:

Provides a theoretical framework and review of relevant prior empirical evidence supporting the proposed project, including a description of the provider training intervention along with the conceptual rationale, and empirical evidence supporting the intervention.

Discusses the training models that were considered for this evaluation and justifies the decision to evaluate the model selected for implementation and evaluation.

Describes how the implementation of the training will be executed, including details about critical components of the training model and how these are linked to expected caregiver outcomes.

Provides clear, concise hypotheses or research questions and includes a logic model that illustrates the links between the training components, expected caregiver outcomes, and outcomes for families and children.

Clearly describes and provides a rationale for how participants will be selected, including exclusion and inclusion criteria (with justification), and strategies for assigning participants to groups (where appropriate).

Demonstrates that the proposed sample size is sufficient for any quantitative aspects of the evaluation.

Provides clear descriptions and rationale for the data collection procedures and measures proposed.

Provides a detailed data analysis plan that shows how the measures and analyses relate to the proposed hypotheses or research questions and demonstrates their appropriateness for the questions under consideration.

Describes an approach, i.e., proposed intervention, delivery methods, targeted population and research design, that will generate data useful for making decisions about taking the intervention to scale and generalizing the results to diverse populations and settings. Discussed the strengths and weaknesses of the approach in this regard.

Discusses how advisory groups including the Steering Committee and Technical Work Group can support the work proposed under this evaluation. Describes the composition of the Technical Work Group.

Describes the activities planned for coordination of core cross-site elements of the training implementation and evaluation including how each project site will be integrated with the overall project.

Discusses how issues of diversity (across subjects with a variety of educational levels, ethnic and language minority backgrounds, and special needs) will be addressed in the implementation and evaluation of the training model.

Demonstrates the capacity for collaboration and partnerships in the delivery of the training intervention as indicated by letters of support or draft agreements.

Describes adequate protections for human subjects, confidentiality of data, and consent procedures, as appropriate.

Criterion 2. Organizational Profiles, Staff and Position Data (25 Points)

The extent to which the applicant:

Demonstrates organizational experience and expertise in the area of child care and child care research.

Describes organizational support to the implementation of this project.

Demonstrates sufficient resources, including the adequacy of time devoted to the project by key staff, to ensure a high level of professional input and attention.

Demonstrates and documents specific organizational and staff experience in developing, implementing, maintaining, and evaluating an early childhood professional development or child care provider training intervention.

Provides information on the skills, experience, and capabilities of the project director and key project staff including the principal investigators and other key staff at each site. Describes their background to manage a project of this size, scope and complexity. Brief resumes of the current and proposed staff, as well as job descriptions, are included. Resumes indicate what position each individual will fill and position descriptions specifically describe the job as it relates to the proposed project.

Provides evidence that key staff have the necessary expertise in research design, sampling, field research, data processing, statistical analysis, reporting, and information dissemination.

Describes the relationship between the proposed project and other work planned, anticipated, or underway with Federal assistance by the applicant.

Describes the management plan for achieving the objectives of the proposed project on time and within budget, including clearly defined responsibilities, timelines, and milestones for accomplishing project tasks and ensuring quality.

Criterion 3. Objectives and Need for Assistance (15 Points)

The extent to which the applicant:

Demonstrates a solid understanding of the critical issues and research needs in child care and the need to improve caregiver knowledge, skills and practices especially in those areas targeted by the proposed approach.

Provides a literature review that is current and comprehensive, identifies other research that has addressed similar issues, and supports the need for the proposed training model and its evaluation. Describes how this evaluation will help address gaps in the research literature and unanswered questions.

Provides a conceptual model in which the research issues, objectives and hypotheses are significant, well-formulated, appropriately linked.

Describes a project framework that is appropriate, feasible and contributes to the importance, comprehensiveness, and quality of the proposed research.

Discusses issues and challenges in delivering training to caregivers who differ in terms of culture, language, education and other demographic characteristics; provide care in diverse child care settings; and serve low-income and ethnic and language minority children and families.

Criterion 4. Results or Benefits Expected (15 Points)

The extent to which the applicant:

Identifies the results and benefits of the project and describes how these will inform child care policies and services, improve practice, and advance understanding of the contexts that promote healthy development and well-being in children and families.

Discusses the extent to which the questions are of importance and relevance for low-income children and families and their development and welfare.

Describes the significance to the field of the project and describes why the approach is innovative.

Provides a list of measurable objectives or indicators that will demonstrate whether and how well the goals of the project are being met.

Addresses the extent to which the expected results of the training evaluation to be conducted will be applicable to other populations of caregivers, in other care settings or contexts.

Identifies possible barriers to achieving the proposed results and benefits and describes strategies for addressing these barriers.

Provides a dissemination plan that encompasses both professional and practitioner-oriented products.

Criterion 5. Budget and Budget Justification (10 Points)

The extent to which the applicant:

Demonstrates that the costs of the proposed project are reasonable and justified in terms of scope, approach, staff time commitment, and anticipated results. Refers to the budget information presented on Standard forms 424 and 424A and the applicant's budget justification.

Describes the fiscal control and accounting procedures that will be used to ensure prudent use, proper and timely disbursement, and accurate accounting of funds received under this announcement.

Allocates sufficient funds in the budget to provide for three project meetings in Washington D.C. as well as attendance for key project staff at the Child Care Bureau's annual meeting of its Child Care Policy Research Consortium.

Provides sufficient funds to make necessary project site visits.

Part IV. Child Care Research Scholars (Priority Area 3)

A. Purpose

Scholarships will be awarded to doctoral candidates for child care research carried out under the auspices of the Child Care Bureau and the educational institution in which the student is enrolled. The purpose of this scholarship program is to increase the number of competent researchers with a sound grasp of child care research and its implications for policies and programs. A primary goal is to foster formal mentoring relationships between faculty members and graduate students who are pursuing research in the child care field. A related goal is to promote the growth of such relationships in colleges and universities throughout the United States in order to develop the national infrastructure for high quality child care research.

Research undertaken under this program must support the Child Care Bureau's research agenda in some way, either by addressing important questions and their implications or by breaking new methodological ground. The mentor is expected to work closely with the student to ensure that this general goal is met. The student is expected to gain significant experience and expertise in theories and methods related to child care, child development, early childhood education, child care program administration, the economics of child care, or child care policy.

To ensure that scholars have sufficient support and mentoring, each scholar works under the direct supervision of a faculty mentor who, as Principal Investigator of the project, ensures that the completed study will address important questions with a high level of technical quality. In addition, scholars whose projects involve community-based research are encouraged to work with a mentor from the field in order to gain a more comprehensive understanding of child care policies, practices, populations, and effects. Students whose work involves secondary analysis of large data sets are encouraged to work closely with one or more senior investigators on the original project. Within such nurturing and supportive relationships, students will be empowered to become autonomous researchers who are also connected to other professionals with diverse backgrounds in a variety of child care roles. These types of mentoring relationships model the principle of collaboration and foster skills needed for a research career that builds on successful partnerships and solid contributions to the scientific community.

B. Eligible Applicants

Eligible applicants include universities or colleges (including faith-based institutions) acting on behalf of graduate students who are pursuing a doctorate and who anticipate completing a child care-related dissertation. The institution must be fully accredited by one of the regional accrediting commissions recognized by the Department of Education and the Council of Post-Secondary Accreditation.

C. Type and Number of Awards

Approximately four scholarship grants will be awarded. No individual educational institution will be funded for more than one candidate unless applications from different universities or colleges do not qualify for support.

D. Project Duration and Budget Periods

Scholarship grants will be funded for a period of up to 24 months (9/30/2003-9/29/2005). The first 12-month budget period will be funded through this competition. Second year awards will be considered on a non-competitive basis, subject to the availability of funds from future appropriations, satisfactory progress of the scholar, and a determination that continued funding is in the best interest of the government.

E. Funding Levels and Maximum Federal Share

Scholarship grants of up to $30,000 will be awarded for the first 12-month budget period and up to $20,000 for a second year, for a total not exceeding $50,000. All monies must be used for the student's dissertation planning or research, including required personnel costs, travel, and other expenses directly related to the research. The maximum Federal share is 100 percent of total project costs.

F. Matching Requirements

There are no matching requirements. However, because of the small size of these grants and their value to institutions of higher learning as well as to the student scholars, applicants are strongly urged to forgo any allowable indirect costs.

G. Transferability

Grants awarded as a result of this competition are not transferable to another student or to another institution.

H. Additional Requirements

The student must be a doctoral student who expects to have an approved dissertation proposal before the beginning of the grant period. A copy of the student's curriculum vita and a transcript of graduate level coursework must be included.

The student must be the author of the grant proposal and must carry primary responsibility for the research being proposed. The project must have the potential to contribute significantly to the student's career development. Research projects may include independent studies conducted by the doctoral candidate or well-defined portions of a larger study being conducted by a Principal Investigator holding a faculty position or senior research position. Research projects must use sound quantitative or qualitative research methodologies or some combination of the two.

A faculty mentor, acting on behalf of the grantee (the institution) will be listed as the Principal Investigator and is responsible for ensuring that all requirements are met and that a high quality dissertation study is completed. The application must include a letter from the faculty mentor stating that he or she approves the application and verifies the student's status in the doctoral program. The faculty member must also verify that the grant will be used to fund the student's dissertation research and include a description of how he or she will regularly monitor the student's work. A copy of the mentor's curriculum vita must be included.

The student must attend the Annual Child Care Research Consortium Meeting and present a poster describing the scholarship research. Faculty mentors are strongly encouraged to participate as well. This conference is typically scheduled during the spring of each year and is held in Washington, DC. The budget may include travel costs for both the student and the faculty mentor.

I. Evaluation Criteria

Eligible applications will be scored competitively against the published evaluation criteria described below. These criteria will be used in conjunction with the other expectations, priorities and requirements in this announcement to evaluate how well each proposal addresses the Child Care Bureau's research agenda and goals. The point values indicate the maximum numerical weight for each criterion (100 total points).

Criterion 1. Approach—Research Design and Methodology (Maximum of 40 Points)

The extent to which the applicant's proposed research design and methodology:

Appropriately links critical research issues, questions, variables, data sources, samples, and analyses.

Employs technically sound and appropriate approaches, design elements and procedures; Reflects sensitivity to technical, logistical, cultural and ethical issues that may arise and includes realistic strategies for the resolution of difficulties; Adequately protects human subjects, confidentiality of data, and consent procedures, as appropriate; Includes an effective plan for the dissemination and utilization of information by researchers, policy-makers, and practitioners in the field; and Effectively utilizes collaborative strategies, as appropriate to the project goals and design.

Criterion 2. Objectives and Need for Assistance (Maximum of 20 Points)

The extent to which the application reflects a solid understanding of critical issues, information needs, and research goals;

The extent to which the conceptual model, research issues, objectives and hypotheses are significant, well formulated, appropriately linked, and will contribute new knowledge and understanding;

The extent to which the proposed project framework is appropriate, feasible, and would significantly contribute to the importance, comprehensiveness, and quality of the proposed research; and

The effectiveness with which the proposal articulates the current state of knowledge related to critical child care issues and the complex interrelationships among major variables, the significance of these issues and variables for child care policies and programs, how current knowledge would be brought to bear on the proposed research, and how the research would benefit various audiences.

Criterion 3: Approach—Project Management (Maximum of 20 Points)

The extent to which the project summary provides a management plan that:

Presents a sound, workable and cohesive plan of action demonstrating how the work would be carried out on time, within budget and with a high degree of quality;

Includes a reasonable schedule of target dates and accomplishments;

Presents a sound administrative framework for maintaining quality control over the implementation and ongoing operations of the study; and

Demonstrates the ability to gain access to necessary organizations, subjects, and data.

Criterion 4: Organizational Profiles (Maximum of 10 Points)

The extent to which the applicant:

Demonstrates competence in areas addressed by the proposed research, including relevant background, experience, training and work on related research or similar projects; and

Demonstrates necessary expertise in research design, sampling, field work, data processing, statistical analysis, reporting, and information dissemination.

Criterion 5. Budget and Budget Justification (Maximum of 10 Points)

The extent to which proposed costs are reasonable; the funds are appropriately allocated across component areas; and the budget is sufficient to accomplish the objectives.

Part IV. Appendices

Appendix 1—Contents and Format of the Application

Clarity and conciseness are of utmost importance. ACYF strongly encourages applicants to limit their applications to 100 pages, double-spaced, with standard one-inch margins and 12 point fonts. This includes the entire Project Narrative Statement including text, tables, charts, graphs, resumes, corporate statements and appendices.

Applicants are cautioned to include all required forms and materials, organized according to the required format. The application packet must include the following items in order:

1. A cover letter that includes the announcement number, priority area and contact information.

2. Standard Federal Forms:

a. Standard Application for Federal Assistance (SF 424 fact sheet and SF 424A) must be included with the application.

b. Standard Form 424B, “Assurances: Non-Construction Programs.” Applicants must sign and return the Standard Form 424B with their applications.

c. Certifications Regarding Lobbying. Applicants must provide a certification regarding lobbying when applying for an award in excess of $100,000. Applicants must sign and return the certification with their applications.

d. Disclosure of Lobbying Activities. Applicants must disclose lobbying activities on the Standard Form LLL when applying for an award in excess of $100,000. Applicants who have used non-Federal funds for lobbying activities in connection with receiving assistance under this announcement shall complete a disclosure form to report lobbying. Applicants must sign and return the disclosure form, if applicable, with their applications.

e. Certification Regarding Drug-Free Workplace Requirements. Applicants must make the appropriate certification of their compliance with the Drug-Free Workplace Act of 1988. By signing and submitting the application, the applicant is providing the certification and need not mail back the certification with the application.

f. Certification Regarding Debarment, Suspension, and Other Responsibility Matters. Applicants must make the appropriate certification that they are not presently debarred, suspended, or otherwise ineligible for an award. By signing and submitting the application, the applicant is providing the certification and need not mail back the certification with the application.

g. Protection of Human Subjects: Assurance, Identification, Certification, and Declaration.

h. Certification Regarding Environmental Tobacco Smoke. Applicants must make the appropriate certification of their compliance. By signing and submitting the application, the applicant is providing the certification and need not mail back the certification with the application.

3. For-profit entities wishing to receive a grant directly must provide a letter indicating their willingness to waive their profit. Non-profit organizations must submit proof of non-profit status in the application at the time of submission. The applicant can demonstrate proof of non-profit status in any one of three ways:

a. By providing a copy of the organization's listing in the Internal Revenue Service's (IRS) most recent list of tax-exempt organizations described in Section 501(c3) of the IRS code;

b. By providing a copy of the currently valid IRS tax exemption certificate; or

c. By providing a copy of the articles of incorporation bearing the seal of the State in which the corporation or association is domiciled.

4. Executive Order 12372—Single Point of Contact.

This program is covered under Executive Order 12372, “Intergovernmental Review of Federal Programs”, and 45 CFR part 100, “Intergovernmental Review of Department of Health and Human Services Program and Activities”. Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington, Wyoming, and Palau have elected to participate in the Executive Order process and have established Single Points of Contact (SPOCs). Applicants from these twenty-six jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the accommodation or explain rule.

When comments are submitted directly to ACF, they should be addressed to: Office of Grants Management, 330 C Street, SW, Room #2070, Washington, DC 20447, Attn: Child Care Policy Research Discretionary Grants. A list of the Single Points of Contact (SPOCs) for each State and Territory can be found on the following Web site: http://www.whitehouse.gov/omb/grants/spoc.html.

5. Table of Contents

6. Project Abstract (not to exceed one page) for use in official briefings, decision packages, and public announcement of awards.

7. Project Narrative Statement (See instructions in Appendix 2 and Evaluation Criteria for each Priority described in this announcement.)

8. Appendices: All supporting materials and documents should be organized into appropriate appendices and securely bound to the application package. Applicants are reminded that the total page limitation applies to both narrative text and supporting materials.

a. Contact Information for all Key Staff.

b. Resumes.

c. Letters of Support, if appropriate.

d. Other.

9. Number of Copies and Binding: An original and two copies of the complete application packet must be submitted. Each copy of the application should be securely stapled in the upper left-hand corner, clipped, or secured at the top with a two-hole punch fastener. Because each application will be duplicated for the review panel, do not use non-removable binders. Do not include tabs, plastic inserts, brochures, videos, or any other items that cannot be photocopied.

Appendix 2: Uniform Project Description

Part I. The Project Description Overview

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

Part 2. General Instructions for Preparing a Full Project Description

Introduction

Applicants required to submit a full project description shall prepare the project description statement in accordance with the following instructions and the specified evaluation criteria. The instructions give a broad overview of what your project description should include while the evaluation criteria expands and clarifies more program-specific information that is needed.

Project Summary Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Additional Information

Following are requests for additional information that need to be included in the application:

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Letters of Support

Provide statements from community, public and commercial leaders that support the project proposed for funding. All submissions should be included in the application or by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use 45 CFR Part 92 procedures, must justify any anticipated procurement action that is expected to be awarded without competition and exceed the simplified acquisition threshold fixed at 41 U.S.C. 403(11) (currently set at 100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Description: Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Nonfederal Resources

Description: Amounts of non-Federal resources that will be used to support the project as identified in Block 15 of the SF-424.

Justification: The firm commitment of these resources must be documented and submitted with the application in order to be given credit in the review process. A detailed budget must be prepared for each funding source.

Dated: July 3, 2003.
Frank Fuentes,
Deputy Commissioner, Administration on Children, Youth and Families.

[FR Doc. 03-17395 Filed 7-8-03; 8:45 am]

BILLING CODE 4184-01-P